NUCLEAR REGULATORY COMMISSION

Solicitation of Comments on Draft NRC Inspection Manual Chapter 2604, “Licensee Performance Review''

AGENCY: Nuclear Regulatory Commission (NRC).

ACTION: Notice of opportunity for comment.

SUMMARY: The Division of Fuel Cycle Safety and Safeguards of the NRC has issued a draft revision to Inspection Manual Chapter (MC) 2604, “Licensee Performance Review” for stakeholder review and comment. The Licensee Performance Review (LPR) process is part of the NRC's oversight program for commercial nuclear fuel cycle facilities regulated under 10 CFR parts 40, 70, and 76. These facilities currently include gaseous diffusion plants, uranium fuel fabrication facilities, and a uranium hexafluoride (UF6) production facility.

Through the proposed revision to MC 2604, the staff intends to make the LPR process more risk informed by: focusing the periodic performance reviews on safety- and safeguards-significant issues; discontinuing the practice of aggregating non-significant issues; eliminating the use of “strengths” and “challenges to performance” in characterizing facility performance, and; replacing the term “weaknesses” with “areas needing improvement.” In addition to enhancing the safety focus of facility performance assessment, the staff believes that these changes should make the LPR process more efficient. Accordingly, the staff has shortened the time span to produce an LPR report by several weeks, which will result in the reports being more timely. The staff intends to continue holding public meetings in the vicinity of facilities to present LPR results to licensees and interested stakeholders.

The availability of this document is the latest step in an NRC effort to improve its oversight program for nuclear fuel cycle facilities. The staff has recently revised its approach to this project to revise first the LPR process, then the inspection program, pending the implementation of changes resulting from the recent revision to 10 CFR part 70. The staff's revised approach is described more fully in a March 18, 2002, memorandum from the Executive Director for Operations to the Commission. This memorandum is available in the Public Document Room, in ADAMS (accession number ML012770063), and on the NRC technical conference Web site at http://techconf.llnl.gov/cgi-bin/topics.

Opportunity To Comment: To provide NRC with stakeholder views on proposed changes to the process used to assess the safety and safeguards performance of fuel facilities, interested parties are invited to comment on the draft revision to MC 2604.

DATES: Written comments must be received prior to May 28, 2002.

ADDRESSES: A copy of the draft revision to MC 2604 may be obtained by writing to the Inspection Section, Special Projects and Inspection Branch (M/S T8H7), Division of Fuel Cycle Safety and Safeguards, Office of Nuclear Materials Safety and Safeguards, U.S. Nuclear Regulatory Commission, Washington, DC 20555-0001. Comments on this document should be sent to this same address.

The draft revision to MC 2604 is also available on the NRC technical conference Web site at http://techconf.llnl.gov/cgi-bin/topics.

FOR FURTHER INFORMATION CONTACT: Patrick Castleman, Office of Nuclear Material Safety and Safeguards, M/S T8H7, U.S. Nuclear Regulatory Commission, Washington, DC 20555, telephone (301) 415-8118, e-mail pic@nrc.gov.

Dated at Rockville, Maryland, this 18th day of April, 2002.
For the Nuclear Regulatory Commission.
Melvyn N. Leach,
Chief, Special Projects and Inspection Branch, Division of Fuel Cycle Safety and Safeguards, Office of Nuclear Material Safety and Safeguards.

[FR Doc. 02-10183 Filed 4-24-02; 8:45 am]

BILLING CODE 7590-01-P